DEPARTMENT OF HEALTH AND HUMAN SERVICES

Centers for Disease Control and Prevention

[CDC-2017-0068; Docket Number NIOSH-299]

Final National Occupational Research Agenda for Cancer, Reproductive, Cardiovascular and Other Chronic Disease Prevention (CRC)

AGENCY: National Institute for Occupational Safety and Health (NIOSH) of the Centers for Disease Control and Prevention (CDC), Department of Health and Human Services (HHS).

ACTION: Notice of availability.

SUMMARY: NIOSH announces the availability of the final National Occupational Research Agenda for Cancer, Reproductive, Cardiovascular and Other Chronic Disease Prevention (CRC).

DATES: The final document was published on December 1, 2017.

ADDRESSES: The document may be obtained at the following link: https://www.cdc.gov/niosh/nora/crosssectors/crc/researchagenda.html.

FOR FURTHER INFORMATION CONTACT: Emily Novicki, (NORACoordinator@cdc.gov), National Institute for Occupational Safety and Health, Centers for Disease Control and Prevention, Mailstop E-20, 1600 Clifton Road NE, Atlanta, GA 30329, phone (404) 498-2581 (not a toll free number).

SUPPLEMENTARY INFORMATION: On August 9, 2017, NIOSH published a request for public review in the Federal Register (82 FR 37228) of the draft version of the National Occupational Research Agenda for CRC. All comments received were reviewed and addressed where appropriate.

Frank Hearl,
Chief of Staff, National Institute for Occupational Safety and Health, Centers for Disease Control and Prevention.

[FR Doc. 2017-27762 Filed 12-22-17; 8:45 am]

BILLING CODE 4163-19-P